DEPARTMENT OF JUSTICE

Antitrust Division

Notice Pursuant to the National Cooperative Research and Production Act of 1993—National Spectrum Consortium

Notice is hereby given that, on May 14, 2018, pursuant to Section 6(a) of the National Cooperative Research and Production Act of 1993, 15 U.S.C. 4301 et seq. (“the Act”), National Spectrum Consortium (“NSC”) has filed written notifications simultaneously with the Attorney General and the Federal Trade Commission disclosing changes in its membership. The notifications were filed for the purpose of extending the Act's provisions limiting the recovery of antitrust plaintiffs to actual damages under specified circumstances. Specifically, Peraton Inc., Herndon, VA; Colorado Engineering Inc., Colorado, CO; and General Dynamics SATCOM Technologies, Inc., State College, PA, have been added as parties to this venture.

Also, The Ohio State University, Columbus, OH; University of Dayton, Dayton, OH; University of Michigan, Ann Arbor, MI; Cloud Front Group, Inc., Reston, VA; EMC Corporation, McLean, VA; NEBENS, LLC, Deer Park, IL; Digital Global Systems, Beltsville, MD; and Charles River Analytics Inc., Cambridge, MA, have withdrawn as parties to this venture.

No other changes have been made in either the membership or planned activity of the group research project. Membership in this group research project remains open, and NSC intends to file additional written notifications disclosing all changes in membership.

On May 24, 2014, NSC filed its original notification pursuant to Section 6(a) of the Act. The Department of Justice published a notice in the Federal Register pursuant to Section 6(b) of the Act on November 4, 2014 (79 FR 65424).

The last notification was filed with the Department on January 16, 2018. A notice was published in the Federal Register pursuant to Section 6(b) of the Act on March 6, 2018 (83 FR 9544).

Patricia A. Brink,
Director of Civil Enforcement, Antitrust Division.

[FR Doc. 2018-13063 Filed 6-18-18; 8:45 am]

BILLING CODE 4410-11-P